ENVIRONMENTAL PROTECTION AGENCY

[FRL-7067-7]

Acid Rain Program: Notice of Annual Adjustment Factors for Excess Emission Penalty

AGENCY: Environmental Protection Agency.

ACTION: Notice of annual adjustment factors for excess emissions penalty.

SUMMARY: Under the Acid Rain Program, affected units must hold enough allowances to cover their sulfur dioxide emissions and meet an emission limit for nitrogen oxides. Under 40 CFR 77.6, units that do not meet these requirements must pay a penalty without demand to the Administrator based on the number of excess tons emitted times $2000 as adjusted by an annual adjustment factor that must be published in the Federal Register.

The annual adjustment factor for adjusting the penalty for excess emissions of sulfur dioxide and nitrogen oxides under 40 CFR part 77 for compliance year 2001 is 1.3868. This value is derived from the Consumer Price Index for 1990 and 2001, as defined in 40 CFR part 72, and corresponds to a penalty of $2774 per excess ton of sulfur dioxide or nitrogen oxides emitted.

The annual adjustment factor for adjusting the penalty for excess emissions of sulfur dioxide and nitrogen oxides under 40 CFR part 77 for compliance year 2002 is 1.4246. This value is derived from the Consumer Price Index for 1990 and 2002, as defined in 40 CFR part 72, and corresponds to a penalty of $2849 per excess ton of sulfur dioxide or nitrogen oxides emitted.

FOR FURTHER INFORMATION CONTACT: Robert Miller, Clean Air Markets Division (6204N), U.S. Environmental Protection Agency, 1200 Pennsylvania Ave, NW., Washington, DC 20460 at (202) 564-9077.

Dated: September 21, 2001.
Larry F. Kertcher,
Acting Director, Clean Air Markets Division, Office of Atmospheric Programs, Office of Air and Radiation.

[FR Doc. 01-24212 Filed 9-26-01; 8:45 am]

BILLING CODE 6560-50-P